DEPARTMENT OF LABOR

Employment and Training Administration

Determinations Regarding Eligibility To Apply for Trade Adjustment Assistance

In accordance with Sections 223 and 284 (19 U.S.C. 2273 and 2395) of the Trade Act of 1974 (19 U.S.C. 2271, et seq.) (“Act”), as amended, the Department of Labor herein presents summaries of determinations regarding eligibility to apply for trade adjustment assistance under Chapter 2 of the Act (“TAA”) for workers by (TA-W) issued during the period of June 1 2021 through June 30 2021.

This notice includes summaries of initial determinations such as Affirmative Determinations of Eligibility, Negative Determinations of Eligibility, and Determinations Terminating Investigations of Eligibility within the period. If issued in the period, this notice also includes summaries of post-initial determinations that modify or amend initial determinations such as Affirmative Determinations Regarding Applications for Reconsideration, Negative Determinations Regarding Applications for Reconsideration, Revised Certifications of Eligibility, Revised Determinations on Reconsideration, Negative Determinations on Reconsideration, Revised Determinations on remand from the Court of International Trade, and Negative Determinations on remand from the Court of International Trade.

Affirmative Determinations for Trade Adjustment Assistance

The following certifications have been issued.

TA-W No. | Workers' firm | Location | Reason(s)
94694 | Faneuil, Inc | Martinsville, VA | Customer Imports of Services.
96692 | Pereles Brothers, Inc | Milwaukee, WI | Customer Imports of Articles.
96694 | Liberty Iron & Metal, Inc | Erie, PA | Secondary Component Supplier.
96707 | Parker Hannifin | Kalamazoo, MI | Secondary Component Supplier.
96738 | Elementis Specialties | South Charleston, WV | Imports of Finished Articles Containing Foreign Components.
96788 | ConnectiCare Capital, LLC | Farmington, CT | Acquisition of Services from a Foreign Country.
96798 | Avtech Tyee Inc | Everett, WA | Secondary Component Supplier.
96799 | XPO Logistics Supply Chain, Inc | Everett, WA | Secondary Service Supplier.
96812 | PlusOne Communications, LLC | Akron, OH | Customer Imports of Services.
96817 | Gilster-Mary Lee Corporation | Wilson, AR | Customer Imports of Articles.
96820 | Clarios, LLC | Canby, OR | Company Imports of Articles.
96824 | Aetna Resources, LLC | Middletown, CT | Acquisition of Services from a Foreign Country.
96829 | A Finkl and Sons | Chicago, IL | ITC Determination.
96834 | H. W. Metal Products, Inc | Tualatin, OR | Secondary Component Supplier.
96838 | Cleveland Cliffs Steel Corporation | Dearborn, MI | Customer Imports of Articles.
96838A | Cleveland-Cliffs Steel Corporation | Middletown, OH | Customer Imports of Articles.
96841 | Earle M. Jorgensen Company | Bedford Heights, OH | Customer Imports of Articles.
96842 | TTEC Healthcare Solutions, LLC | Weber City, VA | Customer Imports of Services.
96861 | Woodgrain | Pilot Rock, OR | Secondary Component Supplier.
96864 | Par Pharmaceutical, Inc | Chestnut Ridge, NY | Shift in Production to a Foreign Country.
96865 | Par Pharmaceutical, Inc | Spring Valley, NY | Shift in Production to a Foreign Country.
96865A | Par Pharmaceutical, Inc | Spring Valley, NY | Shift in Services to a Foreign Country.
96867 | Voestalpine Rotec LLC | Lafayette, IN | Shift in Production to a Foreign Country.
96877 | Frontier Communications | Allen, TX | Acquisition of Services from a Foreign Country.
96885 | Jama Software, Inc | Portland, OR | Acquisition of Articles from a Foreign Country.
96886 | Digimarc Corporation | Beaverton, OR | Acquisition of Services from a Foreign Country.
96889 | Global Safety Textiles LLC | South Hill, VA | Shift in Production to a Foreign Country.
96890 | Teleflex | Maple Grove, MN | Shift in Production to a Foreign Country.
96891 | The Travelers Indemnity Company | Hartford, CT | Acquisition of Services from a Foreign Country.
96893 | ABB, Inc | Kings Mountain, NC | Shift in Production to a Foreign Country.
96896 | TDK Ferrites Corporation | Shawnee, OK | Shift in Production to a Foreign Country.
96897 | Liberty Mutual Group Inc | Columbia, MD | Acquisition of Services from a Foreign Country.
96898 | Emerson Process Management Regulator Technologies Inc | Walden, NY | Shift in Production to a Foreign Country.
96899 | Masonite | Springfield, MO | Shift in Production to a Foreign Country.
96902 | Terex USA, LLC | Oklahoma City, OK | Shift in Production to a Foreign Country.
96903 | Hanesbrands, Inc | Clarksville, AR | Shift in Production to a Foreign Country.
96904 | Smart Energy, Elster Water Co | Ocala, FL | Shift in Production to a Foreign Country.
96906 | The Mosaic Company | Plymouth, MN | ITC Determination.
96907 | Glimmer Technology, Inc | Eugene, OR | Acquisition of Services from a Foreign Country.
96909 | CommScope | Greensboro, NC | Shift in Production to a Foreign Country.
96911 | Sanofi US Services, Inc. and Genzyme Corporation | Malvern, PA | Shift in Services to a Foreign Country.
96913 | PPG Industries, Inc | Pittsburgh, PA | Shift in Services to a Foreign Country.
96919 | Wells Fargo Bank N.A | Glen Allen, VA | Shift in Services to a Foreign Country.
96938 | ST Genetics | Ithaca, NY | Secondary Service Supplier.
96944 | Hufcor, Inc | Janesville, WI | Shift in Production to a Foreign Country.
96954 | Heritage Sleep Products LLC | Orwell, OH | ITC Determination.
96958 | Cooper Lighting LLC | Vicksburg, MS | Shift in Production to a Foreign Country.

Negative Determinations for Trade Adjustment Assistance

The following investigations revealed that the eligibility criteria for TAA have not been met for the reason(s) specified.

TA-W No. | Workers' firm | Location | Reason(s)
94694A | Faneuil, Inc | Vienna, VA | No Shift in Services or Other Basis.
96585 | Lear Corporation | Rochester Hills, MI | No Shift in Production or Other Basis.
96771 | Albany Democrat Herald | Albany, OR | No Shift in Services or Other Basis.
96781 | Ellwood Texas Forge, LP | Houston, TX | No Shift in Production or Other Basis.
96796 | Orchid Orthopedic Solutions | Oregon City, OR | No Shift in Production or Other Basis.
96805 | Tory Burch LLC | New York, NY | No Shift in Production or Other Basis.
96818 | Waddell & Reed, Inc | Mission, KS | No Shift in Services or Other Basis.
96843 | Sykes Enterprises, Incorporated | Boise, ID | No Shift in Services or Other Basis.
96873 | TTEC Services Corp | Englewood, CO | No Shift in Services or Other Basis.
96905 | Vervent Inc | Luverne, MN | No Shift in Services or Other Basis.
96908 | Embraer Executive Jets Services, LLC, a subsidiary of Embraer Aircraft Holding, Inc | Windsor Locks, CT | No Shift in Services or Other Basis.

Determinations Terminating Investigations for Trade Adjustment Assistance

The following investigations were terminated for the reason(s) specified.

TA-W No. | Workers' firm | Location | Reason(s)
96790 | Industrial Preventive Maintenance | Usk, WA | Existing Certification in Effect.
96874 | Daktronics Inc | Brookings, SD | Petitioner Requests Withdrawal.
96882 | Mosey Manufacturing Co. Inc | Richmond, IN | Existing Certification in Effect.
96963 | Liberty Mutual Group Inc | Dover, NH | Petitioner Requests Withdrawal.
96976 | Vector USA, Inc | Kentland, IN | Ongoing Investigation in Process.

Affirmative Determinations Regarding Applications for Reconsideration

The following Applications for Reconsideration have been received and granted. The group of workers or other persons showing an interest in the proceedings may provide written submissions to show why the determination under reconsideration should or should not be modified. The submissions must be sent no later than ten days after publication in Federal Register to the Office of the Director, Office of Trade Adjustment Assistance, Employment and Training Administration, U.S. Department of Labor, Room N-5428, 200 Constitution Avenue NW, Washington, DC 20210.

TA-W No. | Workers' firm | Location | Reason(s)
96116 | Motorola Mobility LLC | Chicago, IL | Reconsideration Warranted.

Revised Certifications of Eligibility

The following revised certifications of eligibility to apply for TAA have been issued.

TA-W No. | Workers' firm | Location | Reason(s)
96026 | Ponderay Newsprint Company | Usk, WA | Worker Group Clarification.
96138 | Mosey Manufacturing Co. Inc | Richmond, IN | Worker Group Clarification.
96138A | Mosey Manufacturing Co. Inc | Richmond, IN | Worker Group Clarification.

I hereby certify that the aforementioned determinations were issued during the period of June 1 2021 through June 30 2021. These determinations are available on the Department's website https://www.dol.gov/agencies/eta/tradeact under the searchable listing determinations or by calling the Office of Trade Adjustment Assistance toll free at 888-365-6822.

Signed at Washington, DC, this 7th day of 2021.
Hope D. Kinglock,
Certifying Officer, Office of Trade Adjustment Assistance.

[FR Doc. 2021-16296 Filed 7-29-21; 8:45 am]

BILLING CODE 4510-FN-P